DEPARTMENT OF COMMERCE

International Trade Administration

[A-570-908]

Postponement of Final Determination of Antidumping Duty Investigation: Sodium Hexametaphosphate from the People's Republic of China

AGENCY: Import Administration, International Trade Administration, Department of Commerce.

EFFECTIVE DATE: September 28, 2007.

FOR FURTHER INFORMATION CONTACT: Erin Begnal or Kristina Horgan, Import Administration, International Trade Administration, U.S. Department of Commerce, 14th Street and Constitution Avenue, NW, Washington, DC 20230; telephone: (202) 482-1442 or (202) 482-8173, respectively.

SUPPLEMENTARY INFORMATION:

Postponement of Final Determination

On February 28, 2007, the Department of Commerce (“Department”) initiated the antidumping duty investigation of sodium hexametaphosphate from the People's Republic of China. See Initiation of Antidumping Duty Investigation: Sodium Hexametaphosphate From the People's Republic of China, 72 FR 9926 (March 6, 2007) (“Initiation Notice”); see also Notice of Correction of Initiation of Antidumping Duty Investigation: Sodium Hexametaphosphate from the People's Republic of China, 72 FR 11325 (March 13, 2007). On September 14, 2007, the Department published the Preliminary Determination in the antidumping duty investigation of sodium hexametaphosphate (“SHMP”) from the People's Republic of China. See Preliminary Determination of Sales at Less Than Fair Value: Sodium Hexametaphosphate from the People's Republic of China, 72 FR 52544 (September 14, 2007) (“Preliminary Determination”). The Preliminary Determination stated that the Department would make its final determination for this antidumping duty investigation no later than 75 days after the date of publication of the preliminary determination (i.e., November 20, 2007).

Section 735(a)(2) of the Tariff Act of 1930 (“the Act”) provides that a final determination may be postponed until not later than 135 days after the date of the publication of the preliminary determination if, in the event of an affirmative determination, a request for such postponement is made by exporters who account for a significant proportion of exports of the subject merchandise, or in the event of a negative preliminary determination, a request for such postponement is made by petitioner. In addition, the Department's regulations, at 19 CFR 351.210(e)(2), require that requests by respondents for postponement of a final determination be accompanied by a request for extension of provisional measures from a four-month period to not more than six months. See 19 CFR 351.210(e)(2).

On September 11, 2007, Hubei Xingfa Chemicals Group Co., Ltd., the sole active mandatory respondent, requested a 60-day extension of the final determination and extension of the provisional measures. Thus, because our preliminary determination is affirmative, and the respondent requesting an extension of the final determination and an extension of the provisional measures, accounts for a significant proportion of exports of the subject merchandise, and no compelling reasons for denial exist, we are extending the due date for the final determination by 60 days. For the reasons identified above, we are postponing the final determination until January 22, 2008.¹

¹ The sixty-day extension would result in the signature day falling on January 19, 2008, which is a Saturday. Therefore, the signature day will roll over to the next business day, January 22, 2008, in accordance with our practice, as January 21, 2008, the following Monday, is a holiday. See Notice of Clarification: Application of “Next Business Day” Rule for Administrative Determination Deadlines Pursuant to the Tariff Act of 1930, As Amended, 70 FR 24533 (May 10, 2005).

This notice is issued and published pursuant to sections 777(i) and 735(a)(2) of the Act and 19 CFR 351.210(g).

Dated: September 21, 2007.
Stephen J. Claeys,
Deputy Assistant Secretary for Import Administration.

[FR Doc. E7-19221 Filed 9-27-07; 8:45 am]

BILLING CODE 3510-DS-S